DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders with August anniversary dates. In accordance with Commerce's regulations, we are initiating those administrative reviews.

DATES: Applicable October 18, 2023.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with August anniversary dates.

All deadlines for the submission of various types of information, certifications, or comments or actions by Commerce discussed below refer to the number of calendar days from the applicable starting time.

Notice of No Sales

With respect to AD administrative reviews, if a producer or exporter named in this notice of initiation had no exports, sales, or entries during the period of review (POR), it must notify Commerce within 30 days of publication of this notice in the Federal Register. All submissions must be filed electronically at https://access.trade.gov, in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 35 days of publication of the initiation Federal Register notice. Comments regarding the CBP data and respondent selection should be submitted within seven days after the placement of the CBP data on the record of the review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Quantity and Value (Q&V) questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information, pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Separate Rate Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

⁵ In the initiation notice that published on August 3, 2023 (88 FR 51271), Commerce inadvertently listed Salem Steel N.A., LLC., a U.S. importer of subject merchandise, as a company under administrative review. Commerce hereby clarifies that Salem Steel N.A., LLC. is not subject to the review.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Initiation of Reviews

In accordance with 19 CFR 351.221(c)(1)(i), we are initiating administrative reviews of the following AD and CVD orders and findings. We intend to issue the final results of these reviews not later than August 30, 2024.

| Period to be reviewed
AD Proceedings
INDIA: Certain Cold-Drawn Mechanical Tubing of Carbon and Alloy Steel,⁵ A-533-873 | 6/1/22-5/31/23
INDIA: Finished Carbon Steel Flanges, A-533-871 | 8/1/22-7/31/23
Adinath International
Aditya Forge Limited
Allena Group
Alloyed Steel
Balkrishna Steel Forge Pvt. Ltd
Bansidhar Chiranjilal
Bebitz Flanges Works Private Limited
C. D. Industries
Cetus Engineering Private Limited
CHW Forge
CHW Forge Pvt. Ltd
Citizen Metal Depot
Corum Flange
DN Forge Industries
Echjay Forgings Limited
Echjay Industries Pvt. Ltd
Falcon Valves and Flanges Private Limited
Heubach International
Hindon Forge Pvt. Ltd
JAI Auto Pvt Ltd
Jiten Steel Industries
Kinnari Steel Corporation
Mascot Metal Manufacturers
M F Rings and Bearing Races Ltd
Munish Forge Private Limited
Norma (India) Ltd
OM Exports
Punjab Steel Works
Raaj Sagar Steels
Ravi Ratan Metal Industries
R. D. Forge
Renin Piping Products ⁶
R.N. Gupta & Co. Ltd
Rolex Fittings India Pvt. Ltd
Rollwell Forge Engineering Components And Flanges
Rollwell Forge Pvt. Ltd
SHM (ShinHeung Machinery)
Siddhagiri Metal & Tubes
Sizer India
Steel Shape India
Sudhir Forgings Pvt. Ltd
Tirupati Forge Pvt. Ltd.; Tirupati Forge
Uma Shanker Khandelwal & Co.⁷
Umashanker Khandelwal Forging Limited
USK Exports Private Limited ⁸
INDONESIA: Utility Scale Wind Towers, A-560-833 | 8/1/22-7/31/23
GE Indonesia
GE Renewable Energy
General Electric Indonesia
Korindo Wind
Nordex SE
PT. Kenertec Power System
PT. Siemens Gamesa Renewable Energy
Siemens Gamesa Renewable Energy
JAPAN: Stainless Steel Sheet and Strip in Coils,⁹ A-588-845 | 7/1/22-6/30/23
MALAYSIA: Polyethylene Retail Carrier Bags, A-557-813 | 8/1/22-7/31/23
Euro SME Sdn. Bhd.; Euro Nature Green Sdn. Bhd
MALAYSIA: Silicon Metal, A-557-820 | 8/1/22-7/31/23
PMB Silicon Sdn. Bhd
MEXICO: Light-Walled Rectangular Pipe and Tube, A-201-836 | 8/1/22-7/31/23
Aceros Cuatro Caminos S.A. de C.V., Productos Laminados de Monterrey S.A. de C.V
Arco Metal S.A. de C.V
Fabricaciones y Servicios de Mexico
Galvak, S.A. de C.V
Grupo Estructuras y Perfiles
Industrias Monterrey S.A. de C.V
Internacional de Aceros, S.A. de C.V
Maquilacero S.A. de C.V.; Tecnicas de Fluidos S.A. de C.V
Nacional de Acero S.A. de C.V
PEASA-Productos Especializados de Acero
Perfiles LM, S.A. de C.V
Regiomontana de Perfiles y Tubos S. de R.L. de C.V.¹⁰
Talleres Acero Rey S.A. de C.V
Ternium Mexico S.A. de C.V
Tuberias Aspe S.A. de C.V
Tuberia Laguna, S.A. de C.V
Tuberias y Derivados S.A. de C.V
REPUBLIC OF KOREA: Large Power Transformers, A-580-867 | 8/1/22-7/31/23
HD Hyundai Electric Co., Ltd
Hyosung Heavy Industries Corporation
Hyundai Electric & Energy Systems Co., Ltd
Iljin Electric Co., Ltd
LS Electric Co., Ltd
REPUBLIC OF KOREA: Light-Walled Rectangular Pipe and Tube, A-580-859 | 8/1/22-7/31/23
Hoa Phat Steel Pipe Company Limited
REPUBLIC OF KOREA: Low Melt Polyester Staple Fiber, A-580-895 | 8/1/22-7/31/23
Toray Advanced Materials Korea, Inc
REPUBLIC OF KOREA: Seamless Carbon and Alloy Steel Standard, Line, and Pressure Pipe, A-580-909 | 8/1/22-7/31/23
ILJIN Steel Corporation
REPUBLIC OF KOREA: Utility Scale Wind Towers, A-580-902 | 8/1/22-7/31/23
CS Wind China Co., Ltd
CS Wind Corporation
CS Wind Malaysia Sdn. Bhd
CS Wind Taiwan Ltd
CS Wind Turkey Kule Imalati A.S
CS Wind UK Limited
CS Wind Vietnam Co., Ltd
CS Wind Portugal, S. A
Dongkuk S&C Co., Ltd
Enercon Korea Inc
GE Renewable Energy
Hyosung Heavy Industries
Nordex SE
Siemens Gamesa Renewable Energy Limited
Vestas Korea
Vestas Korea Wind Technology Ltd
SPAIN: Ripe Olives, A-469-817 | 8/1/22-7/31/23
Aceitunera del Norte de Cáceres, S.Coop.Ltda. de 2° Grado Agro Sevilla Aceitunas S.COOP (And.); Agro Sevilla Aceitunas S.COOP Andalusia; Agro Sevilla Aceitunas S.Coop. And. Angel Camacho Alimentacion S.L
Alimentary Group Dcoop S.Coop. And
Plasoliva, S.L
SPAIN: Utility Scale Wind Towers, A-469-823 | 8/1/22-7/31/23
Acciona Energia
Acciona Windpower S.A
Industrial Barranquesa S.A
Gamesa Energy Transmission S.A
GE Renewable Energy
GRI Renewable Industries S.L
Haizea Wind Group
Iberdrola, S.A
Iberdrola Renovables Energia S.A
Nordex SE
Nordex Energy Spain S.A
Siemens Gamesa Renewable Energy Inc
Vestas Eolica S.A.U
Vestas Eolica, S.A
Vestas Manufacturing Spain S.L.U
Vestas Control Systems Spain S.L.U
Vestas Wind Systems A/S
Windar Renovables, S.A
SOCIALIST REPUBLIC OF VIETNAM: Frozen Fish Fillets, A-552-801 | 8/1/22-7/31/23
An Chau Co., Ltd
An Giang Agriculture and Food Import-Export Joint Stock Company (also known as Afiex or An Giang Agriculture and Foods Import-Export Joint Stock Company)
An Hai Fishery Ltd. Co
An My Fish Joint Stock Company (also known as Anmyfish, Anmyfishco or An My Fish Joint Stock)
An Phat Import-Export Seafood Co., Ltd. (also known as An Phat Seafood Co. Ltd. or An Phat Seafood, Co., Ltd.)
An Phu Seafood Corp. (also known as ASEAFOOD or An Phu Seafood Corp.)
Anchor Seafood Corp
Anh Vu Seafoods Corporation
Anvifish Joint Stock Company (also known as Anvifish, Anvifish JSC, or Anvifish Co., Ltd.)
Asia Commerce Fisheries Joint Stock Company (also known as Acomfish JSC or Acomfish)
Basa Joint Stock Company (also known as BASACO)
Ben Tre Aquaproduct Import and Export Joint Stock Company (also known as Bentre Aquaproduct, Bentre Aquaproduct Import & Export Joint Stock Company or Aquatex Bentre)
Bentre Forestry and Aquaproduct Import Export Joint Stock Company (also known as Bentre Forestry and Aquaproduct Import and Export Joint Stock Company, Ben Tre Forestry and Aquaproduct Import-Export Company, Ben Tre Forestry Aquaproduct Import-Export Company, Ben Tre Frozen Aquaproduct Export Company or Faquimex)
Bentre Seafood Jsc
Bien Dong Hau Giang Seafood Joint Stock Company (also known as Bien Dong HG or Bien Dong Hau Giang Seafood Joint Stock Co.)
Bien Dong Seafood Company Ltd. (also known as Bien Dong, Bien Dong Seafood, Bien Dong Seafood Co., Ltd., Biendong Seafood Co., Ltd., Bien Dong Seafood Limited Liability Company or Bien Dong Seafoods Co., Ltd.)
Binh An Seafood Joint Stock Company (also known as Binh An or Binh An Seafood Joint Stock Co.)
Binh Dinh Fisheries Joint Stock
Binh Dinh Garment Joint Stock Co
Binh Dinh Import Export Company (also known as Binh Dinh Import Export Joint Stock Company, or Binh Dinh)
Binh Phu Seafood Co. Ltd
C.P. Vietnam Corporation
Ca Mau Frozen Seafood Processing Import Export Corporation
Cadovimex II Seafood Import-Export and Processing Joint Stock Company (also known as Cadovimex II, Cadovimex II Seafood Import Export and Processing Joint Stock Company, or Cadovimex II Seafood Import-Export)
Can Tho Animal Fishery Products Processing Export Enterprise (also known as Cafatex Corporation, or Cafatex)
Cantho Imp. Exp. Seafood
Cantho Import Export Fishery Limited
Cantho Import-Export Seafood Joint Stock Company (also known as CASEAMEX, Cantho Import Export Seafood Joint Stock Company, Cantho Import-Export Joint Stock Company, Can Tho Import Export Seafood Joint Stock Company, Can Tho Import-Export Seafood Joint Stock Company, or Can Tho Import-Export Joint Stock Company)
Cavina Seafood Joint Stock Company (also known as Cavina Fish or Cavina Seafood Jsc)
Cds Overseas Vietnam Co., Ltd
Co May Imp. Exp. Co
Colorado Boxed Beef Company (also known as CBBC)
Coral Triangle Processors (dba Mowi Vietnam Co., Limited (Dong Nai))
Cuu Long Fish Import-Export Corporation (also known as CL Panga Fish or Cuu Long Fish Imp. Exp. Corporation)
Cuu Long Fish Joint Stock Company (also known as CL-Fish, CL-FISH CORP, or Cuu Long Fish Joint Stock Company)
Cuu Long Seapro
Da Nang Seaproducts Import-Export Corporation (also known as SEADANANG, Da Nang or Da Nang Seaproducts Import/Export Corp.)
Dai Thanh Seafoods Company Limited (also known as DATHACO, Dai Thanh Seafoods or Dai Thanh Seafoods Co., Ltd.)
Dai Tien Vinh Co., Ltd
Dong A Seafood One Member Company Limited (also known as Dong A Seafood Co.)
Dong Phuong Co., Ltd
Dong Phuong Import Export Seafood Company Limited (also known as Dong Phuong Export Seafood Limited, Dong Phuong Seafood Company Limited, or aFishDeal)
Dragonwaves Frozen Food Factory Co., Ltd
East Sea Seafoods LLC (also known as East Sea Seafoods Limited Liability Company, ESS LLC, ESS, ESS JVC, or East Sea Seafoods Joint Venture Co., Ltd.)
Europe Trading Co., Ltd
Fatifish Company Limited (also known as FATIFISH or FATIFISHCO or Fatfish Co., Ltd.)
GF Seafood Corp
Gia Minh Co. Ltd
Go Dang An Hiep One Member Limited Company
Go Dang Ben Tre One Member Limited Liability Company
GODACO Seafood Joint Stock Company (also known as GODACO, GODACO Seafood, GODACO SEAFOOD, GODACO_SEAFOOD, or GODACO Seafood J.S.C.)
Gold Future Imp. Exp
Gold Future Imp. Exp. Development Co. Ltd
Golden Quality Seafood Corporation (also known as Golden Quality, GoldenQuality, GOLDENQUALITY, or GoldenQuality Seafood Corporation)
Green Farms Seafood Joint Stock Company (also known as Green Farms, Green Farms Seafood JSC, GreenFarm SeaFoods Joint Stock Company, or Green Farms Seafoods Joint Stock Company)
GreenFeed Vietnam Corporation
Ha Noi Can Tho Seafood Jsc
Hai Huong Seafood Joint Stock Company (also known as HHFish, HH Fish, or Hai Huong Seafood)
Hai Thuan Nam Co Ltd
Hai Trieu Co., Ltd
Hapag Lloyd (America) Inc
Hasa Seafood Corp. (Hasaco)
Hiep Thanh Seafood Joint Stock Company (also known as Hiep Thanh or Hiep Thanh Seafood Joint Stock Co.)
Hoa Phat Seafood Import-Export and Processing J.S.C. (also known as HOPAFISH, Hoa Phat Seafood Import-Export and Processing Joint Stock Company, Hoa Phat Seafood Import-Export and Processing JSC, or Hoa Phat Seafood Imp. Exp. And Processing)
Hoang Long Seafood Processing Company Limited (also known as HLS, Hoang Long, Hoang Long Seafood, HoangLong Seafood, or Hoang Long Seafood Processing Co., Ltd.)
Hogiya Seafoods Inc
Hong Hai International
Hong Ngoc Seafood Co., Ltd
Hung Phuc Thinh Food Jsc
Hung Vuong
Hung Vuong Corporation; Hung Vuong Joint Stock Company, HVC or HV Corp.; An Giang Fisheries Import and Export Joint Stock Company (also known as Agifish, An Giang Fisheries Import and Export, An Giang Fisheries Import & Export Joint Stock Company); Asia Pangasius Company Limited (also known as ASIA); Europe Joint Stock Company (also known as Europe, Europe JSC or EJS CO.); Hung Vuong Ben Tre Seafood Processing Company Limited (also known as Ben Tre, HVBT, or HVBT Seafood Processing); Hung Vuong Mascato Company Limited (also known as Mascato); Hung Vuong—Sa Dec Co., Ltd. (also known as Sa Dec or Hung Vuong Sa Dec Company Limited); Hung Vuong—Vinh Long Co., Ltd. (also known as Vinh Long or Hung Vuong Vinh Long Company Limited)
Hung Vuong—Mien Tay Aquaculture Corporation (HVMT or Hung Vuong Mien Tay Aquaculture Joint Stock Company)
Hung Vuong Seafood Joint Stock Company
HungCa 6 Corporation
Hungca Co., Ltd
I.D.I International Development And
I.D.I International Development and Investment Corporation (also known as IDI, International Development & Investment Corporation, International Development and Investment Corporation, or IDI International Development & Investment Corporation)
Indian Ocean One Member Company Limited (also known as Indian Ocean Co., Ltd.)
Jk Fish Jsc
Lian Heng Trading Co. Ltd. (also known as Lian Heng, Lian Heng Trading, Lian Heng Investment Co. Ltd., or Lian Heng Investment)
Loc Kim Chi Seafood Joint Stock Company (also known as Loc Kim Chi)
Mechanics Construction And Foodstuff
Mekong Seafood Connection Co., Ltd
Minh Phu Hau Giang Seafood Corp
Minh Phu Seafood Corp
Minh Qui Seafood Co., Ltd
Nam Phuong Seafood Co., Ltd. (also known as Nam Phuong, NAFISHCO, Nam Phuong Seafood, or Nam Phuong Seafood Company Ltd.)
Nam Viet Corporation (also known as NAVICO)
New Food Import, Inc
Ngoc Ha Co. Ltd. Food Processing and Trading (also known as Ngoc Ha or Ngoc Ha Co., Ltd. Foods Processing and Trading)
Ngoc Tri Seafood Joint Stock
Nguyen Tran Seafood Company (also known as Nguyen Tran J-S Co)
Nha Trang Seafoods, Inc. (also known as Nha Trang Seafoods-F89, Nha Trang Seafoods, or Nha Trang Seaproduct Company)
NTACO Corporation (also known as NTACO or NTACO Corp.)
NTSF Seafoods Joint Stock Company (also known as NTSF, NTSF Seafoods or Ntsf Seafoods Jsc)
Pecheries Oceanic Fisheries Inc
Phi Long Food Manufacturing Co. Ltd
Phu Thanh Co., Ltd
Phu Thanh Hai Co. Ltd. (also known as PTH Seafood)
Phuc Tam Loi Fisheries Imp
Phuong Ngoc Cai Be Ltd. Liability
PREFCO Distribution, LLC
Pufong Trading And Service Co
QMC Foods, Inc
Qn Seafood Co., Ltd
Quang Minh Seafood Company Limited (also known as Quang Minh, Quang Minh Seafood Co., Ltd., or Quang Minh Seafood Co.)
Quirch Foods, LLC
QVD Food Co., Ltd.; QVD Dong Thap Food Co., Ltd. (also known as Dong Thap or QVD DT); Thuan Hung Co., Ltd. (also known as THUFICO)
Riptide Foods
Saigon-Mekong Fishery Co., Ltd. (also known as SAMEFICO or Saigon Mekong Fishery Co., Ltd.)
Seafood Joint Stock Company No. 4 (also known as SEAPRIEXCO No. 4)
Seafood Joint Stock Company No. 4 Branch Dongtam Fisheries Processing Company (also known as DOTASEAFOODCO or Seafood Joint Stock Company No. 4—Branch Dong Tam Fisheries Processing Company)
Seagate Logistics Co., Ltd
Seavina Joint Stock Company (also known as Seavina)
Sobi Co., Ltd
Song Bien Co., Ltd
Southern Fishery Industries Company, Ltd. (also known as South Vina, South Vina Co., Ltd., Southern Fishery Industries Co., Ltd., Southern Fisheries Industries Company, Ltd., or Southern Fisheries Industries Company Limited)
Sunrise Corporation
Tam Le Food Co., Ltd
Tan Thanh Loi Frozen Food Co., Ltd
TG Fishery Holdings Corporation (also known as TG or Tg Fishery Holdings Corp.)
Thanh Binh Dong Thap One Member Company Limited (also known as Thanh Binh Dong Thap or Thanh Binh Dong Thap Ltd.)
Thanh Dat Food Service And Trading
Thanh Hung Co., Ltd. (also known as Thanh Hung Frozen Seafood Processing Import Export Co., Ltd. or Thanh Hung)
Thanh Phong Fisheries Corp
The Great Fish Company, LLC
Thien Ma Seafood Co., Ltd. (also known as THIMACO, Thien Ma, Thien Ma Seafood Company, Ltd., or Thien Ma Seafoods Co., Ltd.)
Thinh Hung Co., Ltd
Thuan An Production Trading and Service Co., Ltd. (also known as TAFISHCO, Thuan An Production Trading and Services Co., Ltd., or Thuan An Production Trading & Service Co., Ltd.)
Thuan Nhan Phat Co., Ltd
Thuan Phuoc Seafoods and Trading Corporation
To Chau Joint Stock Company (also known as TOCHAU, TOCHAU JSC, or TOCHAU Joint Stock Company)
Tran Thai Food Joint Stock
Trang Thuy Seafood Co., Ltd
Trinity Vietnam Co., Ltd
Trong Nhan Seafood Co., Ltd
Truong Phat Seafood Jsc
Van
Van Y Corp
Viet Hai Seafood Company Limited (also known as Viet Hai, Viet Hai Seafood Co., Ltd., Viet Hai Seafood Co., Vietnam Fish-One Co., Ltd., or Fish One)
Viet Long Seafood Co., Ltd
Viet Phat Aquatic Products Co., Ltd
Viet Phu Foods & Fish Co., Ltd
Viet Phu Foods and Fish Corporation (also known as Vietphu, Viet Phu, Viet Phu Food and Fish Corporation, or Viet Phu Food & Fish Corporation)
Viet World Co., Ltd
Vietnam Seaproducts Joint Stock Company (also known as Seaprodex or Vietnam Seafood Corporation—Joint Stock Company)
Vif Seafood Factory
Vinh Hoan Corporation ¹¹
Vinh Long Import-Export Company (also known as Vinh Long, Imex Cuu Long, Vinh Long Import/Export Company)
Vinh Quang Fisheries Corporation (also known as Vinh Quang, Vinh Quang Fisheries Corp., Vinh Quang Fisheries Joint Stock Company, or Vinh Quang Fisheries Co., Ltd.)
Vietnam-wide Entity
SOCIALIST REPUBLIC OF VIETNAM: Seamless Refined Copper Pipe and Tube, A-552-831 | 8/1/22-7/31/23
Daikin Air Conditioning (Vietnam) Joint Stock Company
Hailiang (Vietnam) Copper Manufacturing Company Ltd
Hong Kong Hailiang Metal Trading Ltd
ICOOL USA Incorporated
Jintian Copper Industrial (Vietnam) Company Ltd
Kami Industry Joint Stock Company
KBS Taisei Refrigeration Electric Co., Ltd
KP Resources Inc
LS Metal Vina Limited Liability Company
THAILAND: Steel Propane Cylinders, A-549-839 | 8/1/22-7/31/23
Sahamitr Pressure Container Public Company Limited
THE PEOPLE'S REPUBLIC OF CHINA: Certain Metal Lockers and Parts Thereof, A-570-133 | 8/1/22-7/31/23
Hangzhou Evernew Machinery & Equipment Company Limited
Jiangsu Wanlong Special Containers Co., Ltd
Kunshan Dongchu Precision Machinery Co., Ltd
Ningbo Safewell Group Smart Security Products Co., Ltd
Ningbo Safewell Safes
Safewell Group Holdings, Ltd
Tianjin Jia Mei Metal Furniture Ltd
Xingyi Metalworking Technology (Zhejiang) Co., Ltd.; Zhejiang Xingyi Metal Products Co., Ltd
Xpedition LLC DBA Safewell Gr
Zhejiang Safewell Security Technology Co., Ltd
THE PEOPLE'S REPUBLIC OF CHINA: Hydrofluorocarbon Blends and Components Thereof, A-570-028 | 8/1/22-7/31/23
Changzhou Vista Chemical Co., Ltd
Daikin Fluorochemicals (China) Co., Ltd
Dongyang Weihua Refrigerants Co., Ltd
Hangzhou Icetop Refrigeration Co., Ltd
ICOOL Chemical Co., Ltd
Jiangsu Sanmei Chemicals Co., Ltd
Oasis Chemical Co., Limited
Puremann, Inc
Sinochem Environmental Protection Chemicals (Taicang) Co., Ltd
Superfy Industrial Limited
Tianjin Synergy Gases Products, Co., Ltd
Weitron International Refrigeration Equipment (Kunshan) Co., Ltd
Weitron International Refrigeration Equipment Co., Ltd
Yangfar Industry Co., Ltd
Zhejiang Lantian Environmental Protection Fluoro Material Co. Ltd
Zhejiang Quzhou Lianzhou Refrigerants Co., Ltd
Zhejiang Sanmei Chemical Ind. Co., Ltd.; Zhejiang Sanmei Chemical Industry Co., Ltd
Zhejiang Yonghe Refrigerant Co., Ltd
Zhejiang Zhonglan Refrigeration Technology Co., Ltd
THE PEOPLE'S REPUBLIC OF CHINA: Light-Walled Rectangular Pipe and Tube, A-570-914 | 8/1/22-7/31/23
Hangzhou Ailong Metal Product Co., Ltd
Hoa Phat Steel Pipe Company Ltd
THE PEOPLE'S REPUBLIC OF CHINA: Passenger Vehicle and Light Truck Tires, A-570-016 | 8/1/22-7/31/23
Anhui Jichi Tire Co., Ltd
Giti Radial Tire (Anhui) Company, Ltd.; Giti Tire (Anhui) Company, Ltd.; Giti Tire (Chongqing) Company, Ltd.; Giti Tire (Fujian) Company, Ltd.; Giti Tire Global Trading Pte. Ltd.; Giti Tire Greatwall Company, Ltd.; Giti Tire (Hualin) Company, Ltd.; Giti Tire (Yinchuan) Company, Ltd
Hankook Tire China Co., Ltd
Jiangsu General Science Technology Co., Ltd
Jiangsu Hankook Tire Co., Ltd
Kinforest Tyre Co., Ltd
Prinx Chengshan (Shandong) Tire Co., Ltd
Qingdao Fullrun Tech Tyre Corp., Ltd
Qingdao Fullrun Tyre Corp., Ltd
Qingdao Keter International Co., Limited
Qingdao Lakesea Tyre Co., Ltd
Qingdao Nexen Tire Corporation
Qingdao Powerich Tyre Co., Ltd
Qingdao Sunfulcess Tyre Co., Ltd
Qingdao Transamerica Tire Industrial Co., Ltd
Qingdao Vitour United Corp
Dynamic Tire Corp.; Shandong Jinyu Industrial Co.; Sailun Tire International Corp.; Husky Tire Corp.; Seatex PTE. Ltd.; Seatex International Inc.; Sailun Group (HongKong) Co., Limited; Sailun HK; Sailun Jinyu HK; Sailun Group Co., Ltd.; Sailun Group; Sailun Jinyu Group Co., Ltd.; Sailun Jinyu
Sailun Tire Americas Inc
Shandong Changfeng Tyres Co., Ltd
Shandong Haohua Tire Co., Ltd
Shandong Hongsheng Rubber Technology Co., Ltd
Shandong Linglong Tyre Co., Ltd
Shandong New Continent Tire Co., Ltd
Shandong Province Sanli Tire Manufacture Co., Ltd
Shandong Qilun Rubber Co., Ltd
Shandong Transtone Tyre Co., Ltd
Shandong Wanda Boto Tyre Co., Ltd
Sumitomo Rubber (Changshu) Co., Ltd.; Sumitomo Rubber (Hunan) Co., Ltd.; Sumitomo Rubber Industries, Ltd
Tianjin Wanda Tyre Group Co., Ltd
Triangle Tyre Co., Ltd
Winrun Tyre Co., Ltd
Zhaoqing Junhong Co., Ltd
Zhongce Rubber Group Company, Ltd
THE PEOPLE'S REPUBLIC OF CHINA: Polyethylene Retail Carrier Bags, A-570-886 | 8/1/22-7/31/23
Dong Guan (Dong Wan) Nozawa Plastic Co., Ltd.; Dongguan Huang Jiang United Wah Plastic Bag; Dongguan Huang Jiang United Wah Plastic Bag Factory; Dongguan Nozawa Plastic Co., Ltd.; Dongguan Nozawa Plastic Products Co., Ltd; Dongguan Nozawa Plastics; Dongwan Nozawa Plastics; NOZAWA; United Power Packaging; United Power Packaging Limited; United Power Packaging Ltd.; UNITED POWER PACKAGING, LTD.; DONGGUAN NOZAWA PLASTICS PRODUCTS CO., LTD
Crown Polyethylene Products (International) Ltd
THE PEOPLE'S REPUBLIC OF CHINA: Steel Nails, A-570-909 | 8/1/22-7/31/23
Hebei Minmetals Co., Ltd
Nanjing Caiqing Hardware Co., Ltd
Nanjing Yuechang Hardware Co., Ltd
Shandong Qingyun Hongyi Hardware Products Co., Ltd
Shanghai Yueda Nail Co., Ltd
Shanghai Yueda Nails Industry Co., Ltd
Shanxi Hairui Trade Co., Ltd
S-Mart (Tianjin) Technology Development Co., Ltd
Suntec Industries Co., Ltd
Tianjin Jinchi Metal Products Co., Ltd
Xi'an Metals and Minerals Import & Export Co., Ltd
UKRAINE: Seamless Carbon and Alloy Steel Standard, Line, and Pressure Pipe, A-823-819 | 8/1/22-7/31/23
Interpipe Europe S.A
Interpipe Ukraine LLC/LLC Interpipe Niko Tube/PJSC Interpipe Niznedneprovksy Tube Rolling Plant
UKRAINE: Silicomanganese, A-823-805 | 8/1/22-7/31/23
Joint Stock Company Zaporozhsky Ferroalloy Plant
Nikopol Ferroalloy Plant
CVD Proceedings
INDIA: Finished Carbon Steel Flanges, C-533-872 | 1/1/22-12/31/22
Adinath International
Aditya Forge Limited
Allena Group
Alloyed Steel
Balkrishna Steel Forge Pvt. Ltd
Bansidhar Chiranjilal
Bebitz Flanges Works Private Limited
C. D. Industries
Cetus Engineering Private Limited
CHW Forge
CHW Forge Pvt. Ltd
Citizen Metal Depot
Corum Flange
DN Forge Industries
Echjay Forgings Limited
Echjay Industries Pvt. Ltd
Falcon Valves and Flanges Private Limited
Heubach International
Hindon Forge Pvt. Ltd
JAI Auto Pvt Ltd
Jiten Steel Industries
Kinnari Steel Corporation
M F Rings and Bearing Races Ltd
Mascot Metal Manufacturers
Munish Forge Private Limited
Norma (India) LimitedOM Exports
Punjab Steel Works
R. D. Forge
R. N. Gupta & Company Limited
Raaj Sagar Steels
Ravi Ratan Metal Industries
Renin Piping Products
Rolex Fittings India Pvt. Ltd
Rollwell Forge Engineering Components And Flanges
Rollwell Forge Pvt. Ltd
SHM (ShinHeung Machinery)
Siddhagiri Metal & Tubes
Sizer India
Steel Shape India
Sudhir Forgings Pvt. Ltd
Tirupati Forge Pvt. Ltd
Uma Shanker Khandelwal & Co
Umashanker Khandelwal Forging Limited
USK Exports Private Limited
MALAYSIA: Utility Scale Wind Towers, C-557-822 | 1/1/22-12/31/22
CS Wind Corporation
CS Wind China Co., Ltd
CS Wind Malaysia Sdn. Bhd
CS Wind Taiwan Ltd
CS Wind Turkey Kule İmalatı A.Ş
CS Wind UK Limited
CS Wind Vietnam Co., Ltd
CS Wind Portugal, S.A
GE Renewable Energy
GE Renewable Malaysia Sdn. Bhd
Nordex SE
Siemens Gamesa Renewable Energy, S.A
REPUBLIC OF KOREA: Stainless Steel Sheet and Strip in Coils, C-580-835 | 1/1/22-12/31/22
Geumok Tech. Co., Ltd
Hyundai BNG Steel
Hyundai Steel Co., Ltd
Samsung STS Co., Ltd
SOCIALIST REPUBLIC OF VIETNAM: Steel Nails,¹² C-552-819 | 1/1/22-12/31/22
SPAIN: Ripe Olives, C-469-818 | 1/1/22-12/31/22
Aceitunera del Norte de Cáceres, S.Coop.Ltda. de 2° Grado
Agro Sevilla Aceitunas S.COOP.AND
Alimentary Group DCoop S.Coop. And
Angel Camacho Alimentacion, S.L.; Cuarterola S.L.; Cucanoche S.L.; Grupo Angel
Camacho, S.L
Plasoliva, S.L
THE PEOPLE'S REPUBLIC OF CHINA: Certain Metal Lockers and Parts Thereof, C-570-134 | 1/1/22-12/31/22
Hangzhou Evernew Machinery & Equipment Company Limited
Hangzhou Xline Machinery
Hangzhou Xline Machinery & Equipment Co., Ltd
Jiangsu Wanlong Special Containers Co., Ltd
Kunshan Dongchu Precision Machinery Co., Ltd
Pinghu Chenda Storage Office Co., Ltd
Tianjin Jia Mei Metal Furniture Ltd
Xingyi Metalworking Technology (Zhejiang) Co., Ltd
Zhejiang Xingyi Metal Products Co., Ltd
THE PEOPLE'S REPUBLIC OF CHINA: Light-Walled Rectangular Pipe and Tube, C-570-915 | 1/1/22-12/31/22
Hoa Phat Steel Pipe Company Limited
THE PEOPLE'S REPUBLIC OF CHINA: Passenger Vehicle and Light Truck Tires, C-570-017 | 1/1/22-12/31/22
Anhui Jichi Tire Co., Ltd
Anhui Prime Cord Fabrics Company Ltd.; GITI Radial Tire (Anhui) Company Ltd
GITI Steel Cord (Hubei) Company Ltd.; GITI Tire (China) Investment Company Ltd
GITI Tire (Hualin) Company Ltd.; GITI Tire (USA) Ltd.; GITI Tire Global Trading Pte. Ltd.; GITI Tire (Fujian) Co., Ltd
Jiangsu General Science Technology Co., Ltd
Qingdao Fullrun Tyre Corp., Ltd
Qingdao Keter International Co., Limited
Qingdao Lakesea Tyre Co., Ltd
Qingdao Sentury Tire Co., Ltd
Qingdao Sunfulcess Tyre Co., Ltd
Sailun Group Co., Ltd
Sailun Group (Hong Kong) Co., Limited
Shandong Haohua Tire Co., Ltd
Shandong Hongsheng Rubber Technology Co., Ltd
Shandong New Continent Tire Co., Ltd
Shandong Province Sanli Tire Manufacture Co., Ltd
Shandong Transtone Tyre Co., Ltd
Shandong Qilun Rubber Co., Ltd
Sumitomo Rubber (Changshu) Co. Ltd.; Sumitomo Rubber (China) Co., Ltd.; Sumitomo
Rubber (Hunan) Co., Ltd
Sumitomo Rubber Industries, Ltd
Winrun Tyre Co., Ltd
Zhaoqing Junhong Co., Ltd

Suspension Agreements

⁶ Renin Piping Products (Renin) filed a letter clarifying that the name of the company for which it intended to request a review was “Renin Piping Products,” and not the originally requested name “Renin Piping Product.” See Renin's letter, “Clarification for name of the company in request letter for {Antidumping Duty} Administrative Review for August 1, 2022 to July 31, 2023 of finished carbon steel flanges from India,” dated September 12, 2023.

⁷ Norma (India) Limited (Norma), a foreign exporter of finished carbon steel flanges, filed a letter clarifying that the correct name of the company for which it intended to request a review is “Uma Shanker Khandelwal & Co.,” not the originally requested name “Umashanker Khandelwal and Co.” See Norma's letter, “Clarification for name in request for review in {antidumping duty} review request,” dated September 12, 2023 (Norma AD Clarification Letter).

⁸ Weldbend Corporation (Weldbend) initially requested a review for “USK Export Private Limited.” Weldbend later clarified that it intended to request a review for “USK Exports Private Limited.” See Memorandum, “Phone Conversation with an Interested Party,” dated September 29, 2023. Additionally, Norma filed a letter clarifying that the correct name of the company for which it intended to request a review is “USK Exports Private Limited,” not the originally requested name “USK Export Private Limited.” See Norma AD Clarification Letter.

⁹ In the initiation notice that published on September 11, 2023 (88 FR 62322), Commerce incorrectly listed the period of review for this administrative review and hereby corrects that notice.

¹⁰ We also received a request for review of Regiomontana de Perfiles y Tubos S.A. de C.V. However, Commerce determined that Regiomontana de Perfiles y Tubos S. de R.L. de C.V. is the successor-in-interest to Regiomontana de Perfiles y Tubos S.A. de C.V. See Light-Walled Rectangular Pipe and Tube from Mexico: Final Results of Antidumping Duty Administrative Review; 2018-2019, 86 FR 33646 (June 25, 2021). Thus, we are not initiating a review of Regiomontana de Perfiles y Tubos S.A. de C.V.

¹¹ Vinh Hoan Corporation is part of a single entity with: (1) Van Duc Food Export Joint Stock Company (also known as Van Duc); (2) Van Duc Tien Giang Food Export Company (also known as VDTG or Van Duc Tien Giang Food Exp. Co.); (3) Thanh Binh Dong Thap One Member Company Limited (also known as Thanh Binh Dong Thap or Thanh Binh Dong Thap Ltd.); and (4) Vinh Phuoc Food Company Limited (also known as Vinh Phuoc or VP Food).

¹² In the initiation notice that published on September 11, 2023 (88 FR 62322), Commerce incorrectly listed the period of review for this administrative review and hereby corrects that notice.

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of ADs or CVDs on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Review the Final Rule,¹³ available at www.govinfo.gov/content/pkg/FR-2013-07-17/pdf/2013-17045.pdf, prior to submitting factual information in these segments. Note that Commerce has temporarily modified certain of its requirements for serving documents containing business proprietary information, until further notice.¹⁴

¹³ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

¹⁴ See Temporary Rule Modifying AD/CVD Service Requirements Due to COVID-19, 85 FR 41363 (July 10, 2020).

Any party submitting factual information in an AD or CVD proceeding must certify to the accuracy and completeness of that information using the formats provided at the end of the Final Rule.¹⁵ Commerce intends to reject factual submissions in any proceeding segments if the submitting party does not comply with applicable certification requirements.

¹⁵ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁶ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Review the Final Rule, available at https://www.gpo.gov/fdsys/pkg/FR-2013-09-20/html/2013-22853.htm, prior to submitting factual information in these segments.

¹⁶ See 19 CFR 351.302.

Notification to Interested Parties

These initiations and this notice are in accordance with section 751(a) of the Act (19 U.S.C. 1675(a)) and 19 CFR 351.221(c)(1)(i).

Dated: October 12, 2023.
James Maeder,
Deputy Assistant Secretary for Antidumping and Countervailing Duty Operations.

[FR Doc. 2023-22946 Filed 10-17-23; 8:45 am]

BILLING CODE 3510-DS-P